DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS).

Time and Date: March 4, 2004 9 a.m.-3 p.m., March 5, 2004 10 a.m.-3 p.m.

Place: Hubert H. Humphrey Building, 200 Independence Avenue SW., Room 505A, Washington, DC 20201.

Status: Open.

Purpose: At this meeting the Committee will hear presentations and hold discussions on several health data policy topics. On the morning of the first day the Committee will review letters to the HHS Secretary on claims attachments and privacy. A presentation on health statistics for the 21st century is also planned with subsequent discussion. In the afternoon there will be a discussion of recommendations, reports and letters that the Committee is working on in selected areas including quality, and racial and ethnic data. On the second day the Committee will hear updates and status reports from the Department on several topics including HHS Data Council activities, responses to NCVHS reports and recommendations, clinical data standards adoption, the Consumer Health Informatics Initiative, and the HIPAA privacy rule implementation. In the afternoon the Committee will discuss its 6th annual report to Congress on HIPAA implementation. There will also be reports from the Subcommittees and discussion of agendas for future Committee meetings.

The times shown above are for the full Committee meeting. Subcommittee breakout sessions are scheduled for late in the afternoon of the first day and in the morning prior to the full Committee meeting on the second day. Agendas for these breakout sessions will be posted on the NCVHS website (URL below) when available.

For Further Information Contact: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: February 12, 2004.
James Scanlon,
Acting Deputy Assistant Secretary for Science and Data Policy, Office of the Assistant Secretary for Planning and Evaluation.

[FR Doc. 04-4168 Filed 2-24-04; 8:45 am]

BILLING CODE 4151-05-M